SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: December 1-31, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above: Grandfathering Registration Under 18 CFR part 806, subpart E:

1. Carmeuse Lime & Stone, Inc.—Carmeuse Lime, Inc., GF Certificate No. GF-201912060, North Londonderry and South Annville Townships, Lebanon County, Pa.; Quarry Reservoir; Issue Date: December 5, 2019.

2. Eagles Mere Country Club, GF Certificate No. GF-201912061, Eagles Mere Borough and Shrewsbury Township, Sullivan County, Pa.; Eagles Mere Lake; Issue Date: December 5, 2019.

3. High Company LLC—High Concrete Group LLC, GF Certificate No. GF-201912062, East Cocalico Township, Lancaster County, Pa.; Kurtz Quarry; Issue Date: December 5, 2019.

4. Village of Johnson City—Water Department, GF Certificate No. GF-201912063, Town of Union, Broome County, N.Y.; Wells 1, 2, 3, 5, 6, and 7; Issue Date: December 5, 2019.

5. Town of Owego—Water District #2, GF Certificate No. GF-201912064, Town of Owego, Tioga County, N.Y.; Wells 1 and 2; Issue Date: December 5, 2019.

6. Port Matilda Borough—Port Matilda Waterworks, GF Certificate No. GF-201912065, Worth Township, Centre County, Pa.; Wells 3 and 5; Issue Date: December 5, 2019.

7. SUEZ Water Pennsylvania Inc.—Mechanicsburg Operation, GF Certificate No. GF-201912066, Mechanicsburg Borough, Cumberland County, Pa.; Market Street Well; Issue Date: December 5, 2019.

8. Bucknell University, GF Certificate No. GF-201912067, East Buffalo Township, Union County, Pa.; Wells 2 and 3; Issue Date: December 5, 2019.

9. Manada Golf Club, Inc., GF Certificate No. GF-201912068, East Hanover Township, Dauphin County, Pa.; Fourth Tee Well, Fifth Tee Well, and Barn Well; Issue Date: December 5, 2019.

10. Pennsylvania Fish & Boat Commission—Pleasant Gap State Fish Hatchery, GF Certificate No. GF-201912069, Benner Township, Centre County, Pa.; Blue and East Springs, Hoy and Shugert Springs, and Logan Branch; Issue Date: December 5, 2019.

11. Heidelberg Township—Public Water Supply System, GF Certificate No. GF-201912070, Heidelberg Township, Lebanon County, Pa.; Well 3; Issue Date: December 19, 2019.

12. Pennsylvania American Water Company—Frackville District, GF Certificate No. GF-201912071, Frackville Borough and West Mahanoy Township, Schuylkill County, Pa.; Wells 1, 2, and 3, and the Nice Street Well; Issue Date: December 19, 2019.

13. Moccasin Run Golf Club, Inc., GF Certificate No. GF-201912072, West Fallowfield Township, Chester County, Pa.; Irrigation Pond; Issue Date: December 19, 2019.

14. South Middleton Township Municipal Authority—Public Water Supply System, GF Certificate No. GF-201912073, South Middleton Township, Cumberland County, Pa., Wells 1 and 2; Issue Date: December 19, 2019.

15. SUEZ Water Pennsylvania Inc.—Grantham Operation, GF Certificate No. GF-201912074, Upper Allen Township, Cumberland County, Pa., Well 1; Issue Date: December 19, 2019.

Authority: Pub. L. 91-575, 84 Stat. 1509 et seq., 18 CFR parts 806 and 808.

Dated: January 6, 2020.
Jason E. Oyler,
General Counsel and Secretary to the Commission.

[FR Doc. 2020-00160 Filed 1-8-20; 8:45 am]

BILLING CODE 7040-01-P